DEPARTMENT OF ENERGY

Federal Energy Regulatory Commission

Combined Notice of Filings #1

Take notice that the Commission received the following electric rate filings:

Docket Numbers: ER10-2238-007; ER10-2239-007; ER10-2237-006; ER10-1821-007; ER11-4475-007; ER12-896-003; ER12-911-006.

Applicants: Indigo Generation LLC, Larkspur Energy LLC, Wildflower Energy LP, Goshen Phase II LLC, Rockland Wind Farm LLC, Mariposa Energy, LLC, CPV Sentinel, LLC.

Description: Notice of Non-Material Change in Status of the DGC Companies.

Filed Date: 10/18/13.

Accession Number: 20131018-5112.

Comments Due: 5 p.m. ET 11/8/13.

Docket Numbers: ER13-342-002.

Applicants: CPV Shore, LLC.

Description: CPV Shore Submits Notice of Change in Status.

Filed Date: 10/18/13.

Accession Number: 20131018-5110.

Comments Due: 5 p.m. ET 11/8/13.

Docket Numbers: ER13-585-000.

Applicants: New England Power Pool Participants Committee, ISO New England Inc.

Description: Notice of Effective Date-ER13-585-000 to be effective N/A.

Filed Date: 10/18/13.

Accession Number: 20131018-5095.

Comments Due: 5 p.m. ET 11/8/13.

Docket Numbers: ER14-120-000.

Applicants: BTG Pactual Commodities (US) LLC.

Description: BTG Pactual Commodities (US) LLC Market-Based Rate Tariff to be effective 11/18/2013.

Filed Date: 10/17/13.

Accession Number: 20131018-5000.

Comments Due: 5 p.m. ET 11/7/13.

Docket Numbers: ER14-121-000.

Applicants: Pacific Gas and Electric Company.

Description: Notices of Termination of Pacific Gas and Electric Company for Pristine Sun Funds 5 & 6, LLC, Service Agreement Nos. 200 and 201 under PG&E FERC Electric Tariff Volume No. 4.

Filed Date: 10/18/13.

Accession Number: 20131018-5111.

Comments Due: 5 p.m. ET 11/8/13.

Docket Numbers: ER14-122-000.

Applicants: Entergy Mississippi, Inc.

Description: EAI-MEAM Interconnection Agreement to be effective 12/19/2013.

Filed Date: 10/18/13.

Accession Number: 20131018-5115.

Comments Due: 5 p.m. ET 11/8/13.

Docket Numbers: ER14-123-000.

Applicants: Arizona Public Service Company.

Description: Rate Schedule No. 33—WAPA Triangle-Exhibit A, Revision No. 48 to be effective 12/18/2013.

Filed Date: 10/18/13.

Accession Number: 20131018-5125.

Comments Due: 5 p.m. ET 11/8/13.

Docket Numbers: ER14-124-000.

Applicants: Entergy Arkansas, Inc.

Description: Wholesale Distribution Service Tariff to be effective 12/19/2013.

Filed Date: 10/18/13.

Accession Number: 20131018-5136.

Comments Due: 5 p.m. ET 11/8/13.

Docket Numbers: ER14-125-000.

Applicants: Southwest Power Pool, Inc.

Description: Removal of NERCs Administration of Reliability-Grid Management Tools to be effective 12/17/2013.

Filed Date: 10/18/13.

Accession Number: 20131018-5143.

Comments Due: 5 p.m. ET 11/8/13.

Docket Numbers: ER14-126-000.

Applicants: Yellow Jacket Energy, LLC.

Description: Application for Market-Based Rate Authority to be effective 10/18/2013.

Filed Date: 10/18/13.

Accession Number: 20131018-5147.

Comments Due: 5 p.m. ET 11/8/13.

Take notice that the Commission received the following electric securities filings:

Docket Numbers: ES14-2-000.

Applicants: AEP Generation Resources Inc.

Description: Amendment and clarification to October 15, 2013 Application Under Section 204 of the Federal Power Act for Authorization to Issue Securities of AEP Generation Resources Inc.

Filed Date: 10/17/13.

Accession Number: 20131017-5138.

Comments Due: 5 p.m. ET 11/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2013.
Nathaniel J. Davis, Sr.,
Deputy Secretary.

[FR Doc. 2013-25532 Filed 10-28-13; 8:45 am]

BILLING CODE 6717-01-P